DEPARTMENT OF JUSTICE

Notice of Lodging of Consent Decree Under the Safe Drinking Water Act

Notice is hereby given that on October 30, 2000, a proposed consent decree in United States and the Commonwealth of Pennsylvania v. Tafton Water Company, et al., Civil Action No. 33: CV 99-263, was lodged with the United States District Court for the Middle District of Pennsylvania.

In this action, the United States and Pennsylvania Department of Environmental Protection sought civil penalties, injunctive relief, and preliminary injunctive relief for violations of the Safe Drinking Water Act and Pennsylvania's Safe Drinking Water Act at the Tafton water system which serves the Wilson Hill development in Hawley, Pennsylvania. The proposed consent decree would resolve certain claims against Winton Consolidated Companies, Inc., Public Service Water Company, Tafton Water Company, (“Corporate Defendants”) and Richard M.S. Freeman, (collectively, “the Defendants”) by requiring the Corporate Defendants to pay $200,000 in civil penalties and the Defendants to pay $4,417.72 to the Wilson Hill Property Owners Association Water Company for reimbursement of expenses it incurred at the Tafton water system and the transfer of ownership of the Tafton water system to an unrelated entity. Additionally, Richard Freeman is required to pay $1,000 in stipulated penalties to the United States for his violation of a 1999 Consent Decree.

The Department of Justice will receive for a period of thirty (30) days from the date of this publication comments relating to the consent decree. Comments should be addressed to the Assistant Attorney General of the Environment and Natural Resources Division, Department of Justice, P.O. Box 7611, Washington, DC 20044-7611, and should refer to United States v. Tafton Water Company, et al., DOJ #90-5-1-1-06424.

The proposed consent decree may be examined at the offices of the United States Attorney, Middle District of Pennsylvania, Federal Building, 228 Walnut Street, Second Floor, P.O. Box 11754, Harrisburg, PA 17108. A copy of the proposed consent decree may also be obtained by mail from the Department of Justice Consent Decree Library, P.O. Box 7611, Washington, DC 20044-7611. In requesting a copy, please enclose a check in the amount of $5.25 (25 cents per page reproduction cost) payable to the Consent Decree Library.

Bruce Gelber,
Deputy Section Chief, Environmental Enforcement Section, Environment and Natural Resources Division.

[FR Doc. 00-29290 Filed 11-15-00; 8:45 am]

BILLING CODE 4410-15-M